FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 201202-006.

Title: Oakland MTO Agreement.

Parties: Ports America Outer Harbor Terminal, LLC; Seaside Transportation Service LLC; SSA Terminals, LLC; SSA Terminals (Oakland), LLC; and Trapac, LLC.

Filing Party: David F. Smith, Esq.; Cozen O'Connor; 1627 I Street NW.; Suite 1100; Washington, DC 20006.

Synopsis: The amendment would authorize the parties to implement an off-peak hours program and describe said program.

By Order of the Federal Maritime Commission.
Dated: August 4, 2015.
Karen V. Gregory,
Secretary.

[FR Doc. 2015-19447 Filed 8-6-15; 8:45 am]

BILLING CODE 6731-AA-P